DEPARTMENT OF AGRICULTURE

Commodity Credit Corporation

Request for Revision and Extension of a Currently Approved Information Collection

AGENCY: Commodity Credit Corporation, USDA.

ACTION: Notice and request for comments.

SUMMARY: In accordance with the Paperwork Reduction Act of 1995, this notice announces the intention of the Commodity Credit Corporation (CCC) to request a revision and extension of an information collection currently in effect with respect to the Standards for Approval of Warehouses. The information collection is authorized by the regulations for the following: Standards for Approval of Warehouses for Grain, Rice, Dry Edible Beans, and Seed; Standards for Approval of Dry and Cold Storage Warehouses for Processed Agricultural Commodities, Extracted Honey, and Bulk Oils; and Standards for Approval of Warehouses for Cotton or Cotton Linters.

DATES: Comments on this notice must be received on or before January 29, 2001, to be assured consideration.

ADDITIONAL INFORMATION OR COMMENTS:

Contact Howard Froehlich, USDA, Farm Service Agency, Warehouse and Inventory Division, Storage Contract Branch, STOP 0553, 1400 Independence Avenue SW., Washington, DC 20250-0553, (202) 720-7398; e-mail Howard_Froehlich@wdc.fsa.usda.gov.

SUPPLEMENTARY INFORMATION: Title: Standards for Approval of Warehouses' Reporting and Recordkeeping Requirements.

OMB Control Number: 0560-0052.

Expiration Date: October 31, 2001.

Type of Request: Revision and extension of a currently approved information collection.

Abstract: The information collected under OMB Control Number 0560-0052, as identified above, allows CCC to administer storage agreements authorized by the CCC Charter Act. The information collected allows CCC to contract for warehouse storage and related services and to monitor and enforce all provisions of 7 CFR parts 1421, 1423, and 1427. The forms approved by this information collection are furnished to interested warehouse operators or used by warehouse examiners employed by CCC to secure and record information about the warehouse and its operator. The information collected is necessary to provide those charged with executing contracts for CCC a basis to determine whether the warehouse and the warehouse operator meet applicable standards for a contract and to determine compliance once the contract is approved.

Estimate of Burden: Public reporting burden for this information collection is estimated to average .6 hours per response.

Respondents: Warehouse Operators.

Estimated Number of Respondents: 3,880.

Estimated Number of Responses per Respondent: 2.5.

Estimated Total Annual Burden on Respondents: 483,055 hours.

Proposed topics for comment include: (a) Whether the continued collection of information is necessary for the proper performance of the functions of the agency, including whether the information will have practical utility; (b) the accuracy of CCC's estimate of burden including the validity of the methodology and assumptions used; (c) enhancing the quality, utility, and clarity of the information collected; or (d) minimizing the burden of the collection of the information on those who are to respond, including through the use of appropriate automated, electronic, mechanical, or other technological collection techniques or other forms of information technology. Comments should be sent to the Desk Officer for Agriculture, Office of Information and Regulatory Affairs, Office of Management and Budget, Washington, DC 20503, and to Howard Froehlich at the address listed above. All comments will become a matter of public record.

OMB is required to make a decision concerning the collection(s) of information contained in these proposed regulations between 30 and 60 days after publication of this document in the Federal Register. Therefore, a comment to OMB is best assured of having its full effect if OMB receives it within 30 days of publication.

Signed at Washington, D.C., on November 20, 2000.
Keith Kelly,
Executive Vice President, Commodity Credit Corporation.

[FR Doc. 00-30287 Filed 11-27-00; 8:45 am]

BILLING CODE 3410-05-P